DEPARTMENT OF TRANSPORTATION

Federal Aviation Administration

Notice of Intent To Prepare an Environmental Assessment (EA) for the Proposed Part 139 Operating Certificate and Related Actions at Paulding Northwest Atlanta Airport

AGENCY: Federal Aviation Administration (FAA), DOT.

ACTION: Notice of Intent to prepare an Environmental Assessment and notice of opportunity for public comment.

SUMMARY: The Federal Aviation Administration (FAA) is announcing its intent to prepare an Environmental Assessment (EA) pursuant to the National Environmental Policy Act (NEPA) of 1969 and its implementing regulations for the application by Paulding County Airport Authority (PCAA) for certification of Paulding Northwest Atlanta Airport (PUJ) under 14 Code of Federal Regulations Part 139. The EA will also address connected actions related to the introduction of scheduled commercial air carrier service at PUJ. The purpose of the EA is to consider and evaluate the potential environmental impacts of the proposed actions and alternatives, including the no-action alternative.

DATES: FAA invites comments on the contents of EA during a 30-day comment period that will be initiated upon publication of this Notice. Please submit any written comments you may have on the content of the EA May 21, 2014.

ADDRESSES: Please submit any written comments you may have on the content of the EA to Atlanta Airports District Office, Attn: Lisa Favors, Env. Program Manager, 1701 Columbia Ave., Suite 2-260, Atlanta, GA 30337-2747. Comments may also be submitted by email to Lisa.Favors@faa.gov.

FOR FURTHER INFORMATION CONTACT: Lisa Favors, Environmental Program Manager, Atlanta Airports District Office, 1701 Columbia Ave., Suite 2-260, Atlanta, GA 30337-2747, (404) 305-7145, Lisa.Favors@faa.gov.

SUPPLEMENTARY INFORMATION: Paulding Northwest Atlanta Airport (PUJ or airport) is located outside Atlanta, Georgia in the town of Dallas, Georgia. It is owned by Paulding County and the PCAA and operated by PCAA. It is designated as a general aviation airport. In 2013, the PCAA submitted an application to the FAA requesting a Part 139 Operating Certificate. A Part 139 Operating Certificate allows the airport to accommodate scheduled passenger-carrying operations, frequently referred to as “commercial service.” The FAA plans to prepare an EA in accordance with FAA Order 1050.1E, Policies and Procedures for Considering Environmental Impacts and FAA Order 5050.4B, National Environmental Policy Act Implementing Instructions For Airport Actions.

It is anticipated that the EA will consider the potential environmental impacts associated with the following proposed actions, and alternatives including the no-action alternative, at PUJ: (1) Obtain an Airport Operating Certificate from FAA, as required for commercial service under 14 CFR Part 139; (2) Relocate the Runway 13 threshold 500 feet west, to the end of the existing concrete pavement, which would increase the usable runway length from 5,505 feet to 6,005 feet; (3) Relocate the Runway 13 Precision Approach Path Indicators (PAPIs) by approximately 500 feet from their current location, to accommodate the threshold relocation; (4) Re-mark the runway and modify the runway lighting and electrical system to coincide with the new threshold location; (5) Extend the parallel taxiway 500 feet west, to connect with the end of the existing runway pavement; (6) Install approximately 19,000 linear feet of wildlife fencing around the perimeter of the Airport; (7) Construct an Aircraft Rescue and Fire Fighting (ARFF) facility adjacent to Airport Parkway, in conjunction with the construction by Paulding County of an Airport Fire Station/Emergency 911 Call Center; (8) Provide a mobile Air Traffic Control Tower in the existing terminal area; (9) Obtain FAA redesignation of airspace (to Class D) during periods when mobile Air Traffic Control Tower is in operation; (10) Construct corporate hangars in the existing terminal area; (11) Construct a terminal area expansion to provide hangars and apron area; (12) Design and construct a 400-foot extension of the Runway Safety Area (RSA) at the Runway 31 End to provide a 1,000 feet long by 500 feet wide RSA; (13) Design and install an approach lighting system consisting of a Medium-Intensity Approach Lighting System with Sequenced Flashers (MALSF) and towers; (14) Design paving and marking for a corporate hangar area expansion; (15) Design paving and marking for an itinerant parking area expansion; (16) Design paving and marking for a T-hangar tie-down area expansion; (17) Construct a blast pad on new pavement at the Runway 13 End; (18) Widen Runway 13-31 from 100 feet to 150 feet; (19) Provide temporary vehicle parking; and (20) Acquire land interest for approximately two (2) acres of property within the future Runway Protection Zone (RPZ) located west of the Runway 13 End.

In addition, the EA will consider the cumulative impacts of airport improvement projects recently completed at PUJ including a runway safety area expansion project and a taxiway widening and lighting project. The EA will also consider the environmental impacts of the introduction of scheduled commercial air carrier service to PUJ based on an air traffic forecast. In addition, or in the alternative to the forecast, the EA may consider a request by one or more commercial service air carrier(s) to amend its operating specifications to allow operation at PUJ. The EA will also consider the environmental impacts of similar actions not connected to the introduction of scheduled commercial air carrier service at PUJ but expected to occur at PUJ around the same time as the connected actions.

If, during preparation of the EA, it is determined that the proposed project would result in significant environmental impacts that cannot be mitigated, the FAA will issue a revised Notice of Intent (NOI) to complete the NEPA process using an Environmental Impact Statement (EIS).

The FAA is now inviting the public, agencies, tribal governments, and other interested parties to provide comments, suggestions, and input on the content of the EA. The FAA requests that comments be as specific as possible. The FAA will not provide responses to those submitting comments at this time, but all timely comments will be considered and included in the public record. Additional comments will be solicited on a draft EA, and at least one public meeting held in Paulding County, upon completion of the draft EA.

Issued in Atlanta, Georgia, on April 15, 2014.
Larry F. Clark,
Manager, Atlanta Airports District Office, Southern Region.

[FR Doc. 2014-09027 Filed 4-18-14; 8:45 am]

BILLING CODE 4910-13-P